DEPARTMENT OF HEALTH AND HUMAN SERVICES

Centers for Disease Control and Prevention

[60Day-16-16BX; Docket No. CDC-2016-0092]

Proposed Data Collection Submitted for Public Comment and Recommendations

AGENCY: Centers for Disease Control and Prevention (CDC), Department of Health and Human Services (HHS).

ACTION: Cancellation of notice with comment period.

SUMMARY: The notice “Proposed Data Collection Submitted for Public Comment and Recommendations” on Monitoring and Reporting for the Core State Violence and Injury Prevention Program Cooperative Agreement (80 FR 68543, November 5, 2015) is cancelled. This notice invited comment on a proposed information collection entitled “Monitoring and Reporting for the Core State Violence and Injury Prevention Program Cooperative Agreement,” where CDC would use the information collected to monitor cooperative agreement awardees and to identify challenges to program implementation and achievement of outcomes. This proposed data collection also received publication for public comment on November 9, 2015 under Docket ID 60Day-16-16BZ; Docket No. CDC-2015-0095.

FOR FURTHER INFORMATION CONTACT: (404) 639-7570 or send comments to CDC, Leroy Richardson, 1600 Clifton Road, MS D-74, Atlanta, GA 30333 or send an email to omb@cdc.gov.

Dated: November 12, 2015.
Leroy A. Richardson,
Chief, Information Collection Review Office, Office of Scientific Integrity, Office of the Associate Director for Science, Office of the Director, Centers for Disease Control and Prevention.

[FR Doc. 2015-29297 Filed 11-12-15; 4:15 pm]

BILLING CODE P